INTERNATIONAL TRADE COMMISSION

[Investigation No. 337-TA-698]

In the Matter of Certain DC-DC Controllers and Products Containing Same; Notice of Commission Decision Not to Review the Administrative Law Judge's Initial Determination Granting Complainants' Motion To Amend the Complaint and Notice of Investigation

AGENCY: U.S. International Trade Commission.

ACTION: Notice.

SUMMARY: Notice is hereby given that the U.S. International Trade Commission has determined not to review the presiding administrative law judge's initial determination (“ID”) (Order No. 6) granting complainants' motion to amend the complaint and notice of investigation.

FOR FURTHER INFORMATION CONTACT: Sidney A. Rosenzweig, Office of the General Counsel, U.S. International Trade Commission, 500 E Street, SW., Washington, DC 20436, telephone (202) 708-2532. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on December 29, 2009, based on a complaint filed by Richtek Technology Corp. of Taiwan and Richtek USA, Inc. of San Jose, California. (“Richtek”), alleging a violation of section 337 in the importation, sale for importation, and sale within the United States after importation of certain DC-DC controllers by reason of infringement of certain claims of U.S. Patent Nos. 7,315,190; 6,414,470; and 7,132,717, and by reason of trade secret misappropriation. 75 FR 446 (Jan. 5, 2010). The complaint named as respondents uPI Semiconductor Corp. of Taiwan; Advanced Micro Devices, Inc. of Sunnyvale, California; Sapphire Technology Ltd. of Hong Kong; Best Data Products Inc. d/b/a Diamond Multimedia, Inc. of Chatsworth, California; and XFX Technology, Inc. of Ontario, California (“XFX”).

On February 17, 2010, Richtek moved to amend the complaint and notice of investigation to correct the corporate name of XFX to Eastcom, Inc. d/b/a XFX Technology USA; to add new proposed respondents Micro-Star Int'l Co. Ltd., and MSI Computer Corp.; to add new respondent VisionTek Prods. LLC; and to seek a general exclusion order against downstream products containing the accused uPI chips.

The ALJ granted Richtek's motion in its entirety. Order No. 6 (Mar. 5, 2010). No petitions for review of the ID were filed. The Commission has determined not to review the ID. The authority for the Commission's determination is contained in section 337 of the Tariff Act of 1930, as amended (19 U.S.C. 1337), and in section 210.42 of the Commission's Rules of Practice and Procedure (19 CFR § 210.42).

By order of the Commission.
Issued: March 31, 2010.
Marilyn R. Abbott,
Secretary to the Commission.

[FR Doc. 2010-7680 Filed 4-5-10; 8:45 am]

BILLING CODE 7020-02-P